NUCLEAR REGULATORY COMMISSION

[NRC-2009-0492]

Notice of Issuance of Regulatory Guide

AGENCY: Nuclear Regulatory Commission.

ACTION: Notice of issuance and availability of Regulatory Guide 6.7, Revision 2, “Preparation of an Environmental Report To Support a Rulemaking Petition Seeking an Exemption for a Radionuclide-Containing Product.”

FOR FURTHER INFORMATION CONTACT: Catherine R. Mattsen, U.S. Nuclear Regulatory Commission, Washington, DC 20555-0001, telephone (301) 415-6264 or e-mail Catherine.Mattsen@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 6.7 was issued with a temporary identification as Draft Regulatory Guide, DG-6008. This guide provides general procedures for the preparation of environmental reports (ERs), that are submitted to support a rulemaking petition for an exemption for a radionuclide-containing product, and it replaces Revision 1 of Regulatory Guide 6.7, issued June 1976. Use of this regulatory guide will help to ensure the completeness of the information provided in the ER, assist the staff of the NRC and others in locating pertinent information, and facilitate the environmental review process. However, the NRC does not require conformance with the procedures in the regulatory guide, which are provided for guidance only.

II. Further Information

In November 2009, DG-6008 was published with a public comment period of 60 days from the issuance of the guide. No comments were received and the public comment period closed on January 8, 2010. Electronic copies of Regulatory Guide 6.7, Revision 2 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 10th day of May, 2010.
For the Nuclear Regulatory Commission.
/RA/
Andrea D. Valentin,
Chief, Regulatory Guide Development Branch, Division of Engineering, Office of Nuclear Regulatory Research.

[FR Doc. 2010-11676 Filed 5-14-10; 8:45 am]

BILLING CODE 7590-01-P